DEPARTMENT OF JUSTICE

Membership of the 2001 Senior Executive Service Performance Review Boards

AGENCY: Department of Justice.

ACTION: Notice of Department of Justice's 2001 Senior Executive Service Performance Review Boards.

SUMMARY: Pursuant to the requirements of 5 U.S.C. 4314(c)(4), the Department of Justice announces the membership of its Senior Executive Service (SES) Performance Review Boards (PRBs). The purpose of the PRBs is to provide fair and impartial review of SES performance appraisals and bonus recommendations. The PRBs will make recommendations regarding the final performance ratings to be assigned and SES bonuses to be awarded.

FOR FURTHER INFORMATION CONTACT: Joanne W. Simms, Director, Personnel Staff, Justice Management Division, Department of Justice, Washington, DC 20530; (202) 514-6788.

Department of Justice, 2001 Senior Executive Service Performance Review Board Members

Office of the Solicitor General

Lawrence G. Wallace, Deputy Solicitor General

Office of Legal Counsel

Paul P. Colborn, Special Counsel

Daniel L. Koffsky, Special Counsel

Office of Professional Responsibility

Judith B. Wish, Deputy Counsel on Professional Responsibility

Office of Intelligence Policy and Review

James A. Baker, Deputy Counsel on for Intelligence Operations

Robert O. Davis, Deputy Counsel for Intelligence Policy

Office of Policy Development

Kevin R. Jones, Deputy Assistant Attorney General

Office of Information and Privacy

Daniel J. Metcalfe, Director (Policy and Litigation)

Antitrust Division

Kenneth Heyer, Chief, Competition Policy Section

Thomas D. King Executive Officer

Gail Kursh, Chief, Health Care Task Force

Anthony V. Nanni, Chief, Litigation I Section

Civil Division

Felix V. Baxter, Director, Federal Programs Branch

Joyce R. Branda, Deputy Director, Commercial Litigation Branch

Vito J. Dipietro, Director, Commercial Litigation Branch

John L. Euler, Deputy Director, Torts Branch

J. Patrick Glynn, Director, Torts Branch

Thomas W. Hussey, Director, Office of Immigration Litigation

William G. Kanter, Deputy Director, Appellate Staff

Sheila M. Lieber, Deputy Director, Field Programs Branch

Sandra P. Spooner, Deputy Director, Commercial Litigation Branch

Civil Rights Division

James S. Angus, Counsel to the Assistant Attorney General

Jeremiah Glassman, Chief, Educational Opportunities Section

Albert N. Moskowitz, Chief, Criminal Section

John L. Wodatch, Chief, Disability rights Section

Criminal Division

Joseph E. Gangloff, Principal Deputy Chief, Public Integrity Section

Terry R. Lord, Chief, Child Exploitation & Obscenity Section

Lee J. Radek, Chief, Public Integrity Section

Thomas G. Snow, Deputy Director, Office of International Affairs

Patty M. Stemler, Chief Appellate Section

Environment and Natural Resources Division

Bruce S. Gelber, Chief, Environmental Enforcement Section

K. Jack Haugrud, Chief, General Litigation Section

Pauline H. Milus, Chief, Policy, Legislation and Special Litigation Section

Walker B. Smith, Deputy Chief, Environmental Enforcement Section

Justice Management Division

Benjamin F. Burrell, Director, Facilities and Administrative Services Staff

Linda A. Cinciotta, Director, Office of Attorney Personnel Management

Blane K. Dessy, Director Library Staff

James W. Johnston, Director Procurement Services Staff

Joanne W. Simms, Director Personnel Staff

Tax Division

Stephen J. Csontos, Senior Legislative Counsel

Rosemary E. Paguni, Chief, Criminal Enforcement Section, Northern Region

Robert S. Watkins, Chief, Civil Trail Section, Central Region

Joseph E. Young, Executive Officer

Bureau of Prisons

Robin L. Beusse, Chief, Budget Development Administration Division

Michael W. Garrett, Senior Deputy Assistant Director, Program Review Division

John C. Hardwick, Deputy Assistant Director, Information, Policy, and Public Affairs

James B. Jones, Senior Deputy Assistant Director, Administration Division

Bruce K. Sasser, Assistant Director, Administration Dvision Salvador Seanez, Jr., Assistant Director, Community Corrections and Detention

Immigration and Naturalization Service

John P. Chase, Director of Internal Audit

Joseph D. Cuddihy, Assistant Deputy Executive Associate Commissioner for Immigration Services Division

David R. Howell, Associate Commissioner, Policy and Planning

Catherine J. Kasch, Assistant Commissioner, Human Resources and Development

Anthony S. Tangeman, Deputy Executive Associate Commissioner for Detention and Removals

William R. Yates, Deputy Executive Associate Commissioner for Immigration Services Division

United States Marshals Service

Joseph B. Enders, Assistant Director for Business Services

Office of Justice Programs

Gary N. Silver, Director, Office of Administration

Executive Office for Immigration Review

Jack E. Perkins, Chief Administrative Hearing Officer

Executive Office for United States Attorneys

David W. Downs, Deputy Director for Operations

Executive Office for United States Trustees

Jeffrey M. Miller, Associate Director

Valerie M. Willis,
Executive Secretary, Senior Executive Resources Board.

[FR Doc. 01-14716 Filed 6-11-01; 8:45 am]

BILLING CODE 4410-AR-M